DEPARTMENT OF COMMERCE

National Oceanic and Atmospheric Administration

50 CFR Part 622

[Docket No. 121004518-3398-01; RTID 0648-XB415]

Reef Fish Fishery of the Gulf of Mexico; 2021 Recreational Accountability Measure and Closure for Gulf of Mexico Gray Triggerfish

AGENCY: National Marine Fisheries Service (NMFS), National Oceanic and Atmospheric Administration (NOAA), Commerce.

ACTION: Temporary rule; closure.

SUMMARY: NMFS implements an accountability measure (AM) for the gray triggerfish recreational sector in the exclusive economic zone (EEZ) of the Gulf of Mexico (Gulf) for the 2021 fishing year through this temporary rule. NMFS has projected that the 2021 recreational annual catch target (ACT) for Gulf gray triggerfish will be reached by September 10, 2021. However, because there is uncertainty in the projection and to provide additional notice to fishery participants, NMFS closes the recreational sector for Gulf gray triggerfish on September 15, 2021, and it will remain closed through the end of the fishing year on December 31, 2021. This closure is necessary to protect the Gulf gray triggerfish resource.

DATES: This temporary rule is effective from 12:01 a.m., local time, on September 15, 2021, until 12:01 a.m., local time, on January 1, 2022.

FOR FURTHER INFORMATION CONTACT: Kelli O'Donnell, NMFS Southeast Regional Office, telephone: 727-551-5719, email: Kelli.ODonnell@noaa.gov.

SUPPLEMENTARY INFORMATION: NMFS manages the Gulf reef fish fishery, which includes gray triggerfish, under the Fishery Management Plan for the Reef Fish Resources of the Gulf of Mexico (FMP). The FMP was prepared by the Gulf of Mexico Fishery Management Council (Council) and is implemented by NMFS under the authority of the Magnuson-Stevens Fishery Conservation and Management Act (Magnuson-Stevens Act) through regulations at 50 CFR part 622. All gray triggerfish weights discussed in this temporary rule are in round weight.

The recreational annual catch limit (ACL) for Gulf gray triggerfish is 360,951 lb (163,725 kg), and the recreational ACT is 274,323 lb (124,431 kg) (50 CFR 622.41(b)(2)(iii)).

As specified in 50 CFR 622.41(b)(2)(i), NMFS is required to close the recreational sector for gray triggerfish when the recreational ACT is reached or is projected to be reached by filing a notification to that effect with the Office of the Federal Register. NMFS has determined the 2021 recreational ACT for Gulf gray triggerfish will be reached by September 10, 2021. However, because NMFS is relying on projected landings for August and September 2021 there is some uncertainty in this estimate. Therefore, NMFS is providing additional notice to fishery participants. Accordingly, this temporary rule closes the recreational sector for Gulf gray triggerfish effective at 12:01 a.m., local time, on September 15, 2021, and it will remain closed through the end of the fishing year on December 31, 2021.

During the recreational closure, the bag and possession limits for gray triggerfish in or from the Gulf EEZ are zero. The prohibition on possession of Gulf gray triggerfish also applies in Gulf state waters for any vessel issued a valid Federal charter vessel/headboat permit for Gulf reef fish.

Additionally, as specified in 50 CFR 622.34(f), there is a seasonal closure for Gulf gray triggerfish at the beginning of each fishing year from January 1 through the end of February. Therefore, after the closure implemented by this temporary rule becomes effective on September 15, 2021, the recreational harvest or possession of Gulf gray triggerfish will be prohibited until March 1, 2022.

Classification

NMFS issues this action pursuant to section 305(d) of the Magnuson-Stevens Act. This action is required by 50 CFR 622.41(b)(2)(i), which was issued pursuant to section 304(b) of the Magnuson-Stevens Act, and is exempt from review under Executive Order 12866.

Pursuant to 5 U.S.C. 553(b)(B), there is good cause to waive prior notice and an opportunity for public comment on this action, as notice and comment is unnecessary and contrary to the public interest. Such procedures are unnecessary because the regulations associated with the closure of the gray triggerfish recreational sector at 50 CFR 622.41(b)(2)(i) have already been subject to notice and public comment, and all that remains is to notify the public of the closure. Prior notice and opportunity for public comment are contrary to the public interest because there is a need to immediately implement this action to protect the gray triggerfish stock. Prior notice and opportunity for public comment would require more time and potentially allow the recreational sector to exceed the recreational ACL.

For the aforementioned reasons, the Assistant Administrator also finds good cause to waive the 30-day delay in the effectiveness of this action under 5 U.S.C. 553(d)(3).

Authority: 16 U.S.C. 1801 et seq.

Dated: September 9, 2021.
Jennifer M. Wallace,
Acting Director, Office of Sustainable Fisheries, National Marine Fisheries Service.

[FR Doc. 2021-19823 Filed 9-10-21; 4:15 pm]

BILLING CODE 3510-22-P